DEPARTMENT OF LABOR

Office of the Secretary

Submission for OMB Review; Comment Request

September 12, 2006.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a currently approved collection.

Title: International Price Program (IPP)/U.S. Export Price Indexes.

OMB Number: 1220-0025.

Frequency: Quarterly; Monthly.

Affected Public: Business or other for-profit.

Number of Respondents: 2,700.

Number of Annual Responses: 18,410.

Total Burden Hours: 11,871.

Estimated Time per Response: Initial response rate is 1 hour and the follow-up response rate is 9 minutes.

Total annualized capital/startup costs: $0.

Total annual costs (operating/maintaining systems or purchasing services): $0.

Description: The price data collected by the IPP is used to produce indexes which measure, on a monthly basis, changes in transaction prices of goods and services exported from or imported into the U.S. This published data is in turn used to deflate import and export trade statistics, deflate the foreign trade component of the GDP, determine monetary and fiscal policy, negotiate trade agreements, and determine trade and commercial policy. The respondents are establishments conducting import/export trade and receive no compensation for their participation. The IPP survey is voluntary.

Agency: Bureau of Labor Statistics.

Type of Review: Extension without change of a currently approved collection.

Title: International Price Program (IPP) U.S. Import Product Information.

OMB Number: 1220-0026.

Frequency: Quarterly; Monthly.

Affected Public: Business or other for-profit.

Number of Respondents: 3,700.

Number of Annual Responses: 25,680.

Total Burden Hours: 17,409.

Estimated Time per Response: Initial response rate is 1 hour and the follow-up response rate is 9 minutes.

Total annualized capital/startup costs: $0.

Total annual costs (operating/maintaining systems or purchasing services): $0.

Description: The price data collected by the IPP is used to produce indexes which measure, on a monthly basis, changes in transaction prices of goods and services exported from or imported into the U.S. This published data is in turn used to deflate import and export trade statistics, deflate the foreign trade component of the GDP, determine monetary and fiscal policy, negotiate trade agreements, and determine trade and commercial policy. The respondents are establishments conducting import/export trade and receive no compensation for their participation. The IPP survey is voluntary.

Ira L. Mills,
Departmental Clearance Officer/Team Leader.

[FR Doc. E6-15439 Filed 9-15-06; 8:45 am]

BILLING CODE 4510-24-P